ENVIRONMENTAL PROTECTION AGENCY

40 CFR Parts 52 and 81

[EPA-R05-OAR-2020-0042; FRL-10006-41-Region 5]

Air Plan Approval; Wisconsin; Redesignation of the Newport State Park Area in Door County to Attainment of the 2015 Ozone NAAQS

AGENCY: Environmental Protection Agency (EPA).

ACTION: Proposed rule.

SUMMARY: The Environmental Protection Agency (EPA) is proposing to find that the Newport State Park nonattainment area in Door County, Wisconsin is attaining the 2015 ozone National Ambient Air Quality Standard (NAAQS or standard) and to act in accordance with a request from the Wisconsin Department of Natural Resources (WDNR) to redesignate the area to attainment for the 2015 ozone NAAQS, because the request meets the statutory requirements for redesignation under the Clean Air Act (CAA). Wisconsin submitted this request on January 27, 2020. EPA is also proposing to approve, as a revision to the Wisconsin State Implementation Plan (SIP), the state's plan for maintaining the 2015 ozone NAAQS through 2030 in the Newport State Park area. Finally, EPA finds adequate and is proposing to approve Wisconsin's 2023 and 2030 volatile organic compound (VOC) and oxides of nitrogen (NOX) Motor Vehicle Emission Budgets (MVEBs) for this area.

DATES: Comments must be received on or before April 13, 2020.

ADDRESSES: Submit your comments, identified by Docket ID No. EPA-R05-OAR-2020-0042 at http://www.regulations.gov or via email to arra.sarah@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Jenny Liljegren, Physical Scientist, Attainment Planning and Maintenance Section, Air Programs Branch (AR-18J), Environmental Protection Agency, Region 5, 77 West Jackson Boulevard, Chicago, Illinois 60604, (312) 886-6832, Liljegren.Jennifer@epa.gov.

SUPPLEMENTARY INFORMATION: Throughout this document whenever “we,” “us,” or “our” is used, we mean EPA. This supplementary information section is arranged as follows:

I. What is EPA proposing?

II. What is the background for these actions?

III. What are the criteria for redesignation?

IV. What is EPA's analysis of Wisconsin's redesignation request?

A. Has the area attained the 2015 ozone NAAQS?

B. Has Wisconsin met all applicable requirements of section 110 and part D of the CAA for the area, and does Wisconsin have a fully approved SIP for the area under section 110(k) of the CAA?

C. Are the air quality improvements in the area due to permanent and enforceable emission reductions?

D. Does Wisconsin have a fully approvable ozone maintenance plan for the Newport State Park area?

V. Has the state adopted approvable motor vehicle emission budgets?

VI. Proposed Actions.

VII. Statutory and Executive Order Reviews.

I. What is EPA proposing?

EPA is proposing to take several related actions. EPA is proposing to determine that the Newport State Park nonattainment area in Door County, Wisconsin is attaining the 2015 ozone NAAQS, based on quality-assured and certified monitoring data for 2017-2019, and that this area has met the requirements for redesignation under section 107(d)(3)(E) of the CAA. EPA is thus proposing to change the legal designation of the Newport State Park area from nonattainment to attainment for the 2015 ozone NAAQS. EPA is also proposing to approve, as a revision to the Wisconsin SIP, the state's maintenance plan (such approval being one of the CAA criteria for redesignation to attainment status) for the area. The maintenance plan is designed to keep the area in attainment of the 2015 ozone NAAQS through 2030. Finally, EPA is proposing to approve the newly-established 2023 and 2030 MVEBs for the area.

II. What is the background for these actions?

Ground-level ozone is detrimental to human health. On October 1, 2015, EPA promulgated a revised health-based 8-hour ozone NAAQS of 0.070 parts per million (ppm). See 80 FR 65292 (October 26, 2015). Under EPA's regulations at 40 CFR part 50, the 2015 ozone NAAQS is attained in an area when the 3-year average of the annual fourth highest daily maximum 8-hour average concentration is equal to or less than 0.070 ppm, when truncated after the thousandth decimal place, at all the ozone monitoring sites in the area. See 40 CFR 50.19 and appendix U to 40 CFR part 50.

Upon promulgation of a new or revised NAAQS, section 107(d)(1)(B) of the CAA requires EPA to designate as nonattainment any areas that are violating the NAAQS, based on the most recent three years of quality assured ozone monitoring data. The Newport State Park area was designated as a marginal nonattainment area and as a Rural Transport Area (RTA) ¹ for the 2015 ozone NAAQS on June 4, 2018 (83 FR 25776) (effective August 3, 2018).

¹ EPA designated the Newport State Park area as a Rural Transport Area (RTA), which means EPA determined that the NOX and VOC emissions from sources within the park do not make a significant contribution to ozone concentrations in the park itself or in other areas.

III. What are the criteria for redesignation?

Section 107(d)(3)(E) of the CAA allows redesignation of an area to attainment of the NAAQS provided that: (1) The Administrator (EPA) determines that the area has attained the NAAQS; (2) the Administrator has fully approved the applicable implementation plan for the area under section 110(k) of the CAA; (3) the Administrator determines that the improvement in air quality is due to permanent and enforceable reductions in emissions resulting from implementation of the applicable SIP, applicable Federal air pollutant control regulations, and other permanent and enforceable emission reductions; (4) the Administrator has fully approved a maintenance plan for the area as meeting the requirements of section 175A of the CAA; and (5) the state containing the area has met all requirements applicable to the area for the purposes of redesignation under section 110 and part D of the CAA.

On April 16, 1992, EPA provided guidance on redesignations in the General Preamble for the Implementation of Title I of the CAA Amendments of 1990 (57 FR 13498) and supplemented this guidance on April 28, 1992 (57 FR 18070). EPA has provided further guidance on processing redesignation requests in the following documents:

1. “Ozone and Carbon Monoxide Design Value Calculations,” Memorandum from Bill Laxton, Director, Technical Support Division, June 18, 1990;

2. “Maintenance Plans for Redesignation of Ozone and Carbon Monoxide Nonattainment Areas,” Memorandum from G.T. Helms, Chief, Ozone/Carbon Monoxide Programs Branch, April 30, 1992;

3. “Contingency Measures for Ozone and Carbon Monoxide (CO) Redesignations,” Memorandum from G.T. Helms, Chief, Ozone/Carbon Monoxide Programs Branch, June 1, 1992;

4. “Procedures for Processing Requests to Redesignate Areas to Attainment,” Memorandum from John Calcagni, Director, Air Quality Management Division, September 4, 1992 (the “Calcagni Memorandum”);

5. “State Implementation Plan (SIP) Actions Submitted in Response to Clean Air Act (CAA) Deadlines,” Memorandum from John Calcagni, Director, Air Quality Management Division, October 28, 1992;

6. “Technical Support Documents (TSDs) for Redesignation of Ozone and Carbon Monoxide (CO) Nonattainment Areas,” Memorandum from G.T. Helms, Chief, Ozone/Carbon Monoxide Programs Branch, August 17, 1993;

7. “State Implementation Plan (SIP) Requirements for Areas Submitting Requests for Redesignation to Attainment of the Ozone and Carbon Monoxide (CO) National Ambient Air Quality Standards (NAAQS) On or After November 15, 1992,” Memorandum from Michael H. Shapiro, Acting Assistant Administrator for Air and Radiation, September 17, 1993;

8. “Use of Actual Emissions in Maintenance Demonstrations for Ozone and CO Nonattainment Areas,” Memorandum from D. Kent Berry, Acting Director, Air Quality Management Division, November 30, 1993;

9. “Part D New Source Review (Part D NSR) Requirements for Areas Requesting Redesignation to Attainment,” Memorandum from Mary D. Nichols, Assistant Administrator for Air and Radiation, October 14, 1994; and

10. “Reasonable Further Progress, Attainment Demonstration, and Related Requirements for Ozone Nonattainment Areas Meeting the Ozone National Ambient Air Quality Standard,” Memorandum from John S. Seitz, Director, Office of Air Quality Planning and Standards, May 10, 1995.

IV. What is EPA's analysis of Wisconsin's redesignation request?

A. Has the area attained the 2015 ozone NAAQS?

For redesignation of a nonattainment area to attainment, the CAA requires EPA to determine that the area has attained the applicable NAAQS (CAA section 107(d)(3)(E)(i)). An area is attaining the 2015 ozone NAAQS if it meets the 2015 ozone NAAQS, as determined in accordance with 40 CFR 50.19 and appendix U of part 50, based on three complete, consecutive calendar years of quality-assured air quality data for all monitoring sites in the area. To attain the NAAQS, the 3-year average of the annual fourth-highest daily maximum 8-hour average ozone concentrations (ozone design values) at each monitor must not exceed 0.070 ppm. The air quality data must be collected and quality-assured in accordance with 40 CFR part 58 and recorded in EPA's Air Quality System (AQS). Ambient air quality monitoring data for the 3-year period must also meet data completeness requirements. An ozone design value is valid if daily maximum 8-hour average concentrations are available for at least 90% of the days within the ozone monitoring seasons,² on average, for the 3-year period, with a minimum data completeness of 75% during the ozone monitoring season of any year during the 3-year period. See section 4 of appendix U to 40 CFR part 50.

² The ozone season is defined by state in 40 CFR 58 appendix D. The ozone season for Wisconsin is March-October 15. See 80 FR 65292, 65466-67 (October 26, 2015).

EPA has reviewed the available ozone monitoring data from the monitoring site in the Newport State Park area for the 2017-2019 period. These data have been quality assured, are recorded in the AQS, and have been certified. These data demonstrate that the Newport State Park area is attaining the 2015 ozone NAAQS. The annual fourth-highest 8-hour ozone concentration and the 3-year average of these concentrations (monitoring site ozone design value) for the Newport State Park area monitoring site are summarized in Table 1.

Table 1—Annual Fourth High Daily Maximum 8-Hour Ozone Concentration and 3-Year Average of the Fourth High Daily Maximum 8-Hour Ozone Concentrations for the Newport State Park Area
County | Monitor | Year | % Observed | Fourth high (ppm) | 2017-2019 average (ppm)
Door | 55-029-0004 | 2017 | 100 | 0.069 | 0.070
|  | 2018 | 97 | 0.075 |
|  | 2019 | 99 | 0.066 |

The Newport State Park area's 3-year ozone design value for 2017-2019 is 0.070 ppm, which meets the 2015 ozone NAAQS. Therefore, in this action, EPA proposes to determine that the area is attaining the 2015 ozone NAAQS.

EPA will not take final action to determine that the area is attaining the NAAQS nor to approve the redesignation of this area if the design value of the monitoring site in the area violates the NAAQS after proposal but prior to final approval of the redesignation. As discussed in section IV.D.3. below, Wisconsin has committed to continue monitoring ozone in this area to verify maintenance of the 2015 ozone NAAQS.

B. Has Wisconsin met all applicable requirements of section 110 and part D of the CAA for the area, and does Wisconsin have a fully approved SIP for the area under section 110(k) of the CAA?

As criteria for redesignation of an area from nonattainment to attainment of a NAAQS, the CAA requires EPA to determine that the state has met all applicable requirements under section 110 and part D of title I of the CAA (see section 107(d)(3)(E)(v) of the CAA) and that the state has a fully approved SIP under section 110(k) of the CAA (see section 107(d)(3)(E)(ii) of the CAA). EPA finds that Wisconsin has met all applicable SIP requirements, for purposes of redesignation, under section 110 and part D of title I of the CAA (requirements specific to nonattainment areas for the 2015 ozone NAAQS). Additionally, EPA finds that all applicable requirements of the Wisconsin SIP for the area have been fully approved under section 110(k) of the CAA. In making these determinations, EPA ascertained which CAA requirements are applicable to the Newport State Park area and the Wisconsin SIP and, if applicable, whether the required Wisconsin SIP elements are fully approved under section 110(k) and part D of the CAA. As discussed more fully below, SIPs must be fully approved only with respect to currently applicable requirements of the CAA.

The Calcagni Memorandum describes EPA's interpretation of section 107(d)(3)(E) of the CAA. Under this interpretation, a state and the area it wishes to redesignate must meet the relevant CAA requirements that are due prior to the state's submittal of a complete redesignation request for the area. See also the September 17, 1993, Michael Shapiro memorandum and 60 FR 12459, 12465-66 (March 7, 1995) (redesignation of Detroit-Ann Arbor, Michigan to attainment of the 1-hour ozone NAAQS). Applicable requirements of the CAA that come due subsequent to the state's submittal of a complete request remain applicable until a redesignation to attainment is approved but are not required as a prerequisite to redesignation. See section 175A(c) of the CAA. Sierra Club v. EPA, 375 F.3d 537 (7th Cir. 2004). See also 68 FR 25424, 25427 (May 12, 2003) (redesignation of the St. Louis/East St. Louis area to attainment of the 1-hour ozone NAAQS).

1. Wisconsin Has Met All Applicable Requirements of Section 110 and Part D of the CAA Applicable to the Newport State Park Area for Purposes of Redesignation

a. Section 110 General Requirements for Implementation Plans

Section 110(a)(2) of the CAA outlines the general requirements for a SIP. Section 110(a)(2) provides that the SIP must have been adopted by the state after reasonable public notice and hearing, and that, among other things, it must: (1) Include enforceable emission limitations and other control measures, means or techniques necessary to meet the requirements of the CAA; (2) provide for establishment and operation of appropriate devices, methods, systems and procedures necessary to monitor ambient air quality; (3) provide for implementation of a source permit program to regulate the modification and construction of stationary sources within the areas covered by the plan; (4) include provisions for the implementation of part C prevention of significant deterioration (PSD) and part D new source review (NSR) permit programs; (5) include provisions for stationary source emission control measures, monitoring, and reporting; (6) include provisions for air quality modeling; and, (7) provide for public and local agency participation in planning and emission control rule development.

Section 110(a)(2)(D) of the CAA requires SIPs to contain measures to prevent sources in a state from significantly contributing to air quality problems in another state. To implement this provision, EPA has required certain states to establish programs to address transport of certain air pollutants, e.g., NOX SIP call, Clean Air Interstate Rule (CAIR) and the Cross-State Air Pollution Rule (CSAPR). However, like many of the 110(a)(2) requirements, the section 110(a)(2)(D) SIP requirements are not linked with a particular area's ozone designation and classification. EPA concludes that the SIP requirements linked with the area's ozone designation and classification are the relevant measures to evaluate when reviewing a redesignation request for the area. The section 110(a)(2)(D) requirements, where applicable, continue to apply to a state regardless of the designation of any one particular area within the state. Thus, we believe these requirements are not applicable requirements for purposes of redesignation. See 65 FR 37890 (June 15, 2000), 66 FR 50399 (October 19, 2001), 68 FR 25418, 25426-27 (May 13, 2003).

In addition, EPA believes that other section 110 elements that are neither connected with nonattainment plan submissions nor linked with an area's ozone attainment status are not applicable requirements for purposes of redesignation. The area will still be subject to these requirements after the area is redesignated to attainment of the 2015 ozone NAAQS. The section 110 and part D requirements which are linked with a particular area's designation and classification are the relevant measures to evaluate in reviewing a redesignation request. This approach is consistent with EPA's existing policy on applicability (i.e., for redesignations) of conformity and oxygenated fuels requirements, as well as with section 184 ozone transport requirements. See Reading, Pennsylvania proposed and final rulemakings, 61 FR 53174-53176 (October 10, 1996) and 62 FR 24826 (May 7, 1997); Cleveland-Akron-Loraine, Ohio final rulemaking, 61 FR 20458 (May 7, 1996); and Tampa, Florida final rulemaking, 60 FR 62748 (December 7, 1995). See also the discussion of this issue in the Cincinnati, Ohio ozone redesignation (65 FR 37890, June 19, 2000), and the Pittsburgh, Pennsylvania ozone redesignation (66 FR 50399, October 19, 2001).

We have reviewed Wisconsin's SIP and concluded that it meets the general SIP requirements under section 110 of the CAA, to the extent those requirements are applicable for purposes of redesignation.³

³ On September 14, 2018, Wisconsin submitted a SIP to meet the requirements of section 110 for the 2015 ozone NAAQS. The requirements of section 110(a)(2), however, are statewide requirements that are not linked to the 2015 ozone NAAQS nonattainment status of the Newport State Park area. Therefore, EPA concludes that these infrastructure requirements are not applicable requirements for purposes of review of the state's 2015 ozone NAAQS redesignation request.

b. Part D Requirements

Section 172(c) of the CAA sets forth the basic requirements of air quality plans for states with nonattainment areas that are required to submit them pursuant to section 172(b). Subpart 2 of part D, which includes section 182 of the CAA, establishes specific requirements for ozone nonattainment areas depending on the areas' nonattainment classifications.

The Newport State Park area was classified as marginal under subpart 2 for the 2015 ozone NAAQS. Therefore, the area is subject to the subpart 1 requirements contained in section 172(c) and section 176. Similarly, the area is subject to the subpart 2 requirements contained in section 182(a) (marginal nonattainment area requirements). A thorough discussion of the requirements contained in section 172(c) and 182 can be found in the General Preamble for Implementation of Title I (57 FR 13498).

i. Subpart 1 Section 172 Requirements

CAA Section 172(b)requires states to submit SIPs meeting the requirements of section 172(c) no later than three years from the date of the nonattainment designation. For the Newport State Park nonattainment area, the SIP provisions required under CAA section 172 are due August 3, 2021. No requirements applicable for purposes of redesignation under part D became due prior to Wisconsin's submission of the complete redesignation request and, therefore, none are applicable to the area for purposes of redesignation.

EPA previously approved Wisconsin's nonattainment NSR program on January 18, 1995 (60 FR 3538). Nonetheless, EPA has determined that, since PSD requirements will apply after redesignation, areas being redesignated need not comply with the requirement that an NSR program be approved prior to redesignation, provided that the area demonstrates maintenance of the NAAQS without part D NSR. A more detailed rationale for this view is described in a memorandum from Mary Nichols, Assistant Administrator for Air and Radiation, dated October 14, 1994, entitled, “Part D New Source Review Requirements for Areas Requesting Redesignation to Attainment.” Wisconsin has demonstrated that the Newport State Park area will be able to maintain the 2015 ozone NAAQS without part D NSR in effect; therefore, EPA concludes that the state need not have a fully approved part D NSR program prior to approval of the redesignation request. See rulemakings for Detroit, Michigan (60 FR 12467-12468, March 7, 1995); Cleveland-Akron-Lorain, Ohio (61 FR 20458, 20469-20470, May 7, 1996); Louisville, Kentucky (66 FR 53665, October 23, 2001); and Grand Rapids, Michigan (61 FR 31834-31837, June 21, 1996). Wisconsin's PSD program will become effective in the Newport State Park area upon redesignation to attainment. EPA approved Wisconsin's PSD program on October 6, 2014 (79 FR 60064) and February 7, 2017 (82 FR 9515).

ii. Section 176 Conformity Requirements

Section 176(c) of the CAA requires states to establish criteria and procedures to ensure that federally supported or funded projects conform to the air quality planning goals in the applicable SIP. The requirement to determine conformity applies to transportation plans, programs and projects that are developed, funded or approved under title 23 of the United States Code (U.S.C.) and the Federal Transit Act (transportation conformity), as well as to all other federally supported or funded projects (general conformity). State transportation conformity SIP revisions must be consistent with Federal conformity regulations relating to consultation, enforcement and enforceability that EPA promulgated pursuant to its authority under the CAA.

EPA interprets the conformity SIP requirements ⁴ as not applying for purposes of evaluating a redesignation request under section 107(d) because state conformity rules are still required after redesignation and Federal conformity rules apply where state conformity rules have not been approved. See Wall v. EPA, 265 F.3d 426 (6th Cir. 2001) (upholding this interpretation); see also 60 FR 62748 (December 7, 1995) (redesignation of Tampa, Florida). Nonetheless, Wisconsin has an approved conformity SIP for the Door County area. See 79 FR 10995 (February 27, 2014).

⁴ CAA section 176(c)(4)(E) requires states to submit revisions to their SIPs to reflect certain Federal criteria and procedures for determining transportation conformity. Transportation conformity SIPs are different from SIPs requiring the development of MVEBs, such as control strategy SIPs and maintenance plans.

iii. Subpart 2 Section 182(a) Requirements

Section 182(a)(1) requires states to submit a comprehensive, accurate, and current inventory of actual emissions from sources of VOC and NOX emitted within the boundaries of the ozone nonattainment area within two years of designation. For the Newport State Park area, this submission is due August 3, 2020. Because it will become due after Wisconsin's submission of a complete redesignation request for the area, it is not an applicable requirement for purposes of redesignation.

Under section 182(a)(2)(A), states with ozone nonattainment areas that were designated prior to the enactment of the 1990 CAA amendments were required to submit, within six months of classification, all rules and corrections to existing VOC reasonably available control technology (RACT) rules that were required under section 172(b)(3) prior to the 1990 CAA amendments. The Newport State Park area is not subject to the section 182(a)(2) RACT “fix up” requirement for the 2015 ozone NAAQS because it was designated as nonattainment for this standard after the enactment of the 1990 CAA amendments and because Wisconsin complied with this requirement for the larger Door County area under the prior 1-hour ozone NAAQS. See 59 FR 41709 (August 15, 1994) and 60 FR 20643 (April 27, 1995).

Section 182(a)(2)(B) requires each state with a marginal ozone nonattainment area that implemented or was required to implement a vehicle inspection and maintenance (I/M) program prior to the 1990 CAA amendments to submit a SIP revision for an I/M program no less stringent than that required prior to the 1990 CAA amendments or that was already in the SIP at the time of the CAA amendments, whichever is more stringent. For the purposes of the 2015 ozone NAAQS and the consideration of Wisconsin's redesignation request for this standard, the Newport State Park area is not subject to the section 182(a)(2)(B) requirement because the area was designated as nonattainment for the 2015 ozone NAAQS after the enactment of the 1990 CAA amendments.

Section 182(a)(2)(C), under the heading “Corrections to the State Implementation Plans—Permit Programs” contains a requirement for states to submit NSR SIP revisions to meet the requirements of CAA sections 172(c)(5) and 173 within two years after the date of enactment of the 1990 CAA Amendments. For the purposes of the 2015 ozone NAAQS and the consideration of Wisconsin's redesignation request for this standard, the Newport State Park area is not subject to the section 182(a)(2)(C) requirement because the area was designated as nonattainment for the 2015 ozone NAAQS after the enactment of the 1990 CAA amendments.

Section 182(a)(4) specifies the emission offset ratio for marginal areas but does not establish a SIP submission deadline. EPA's December 6, 2018 implementation rule for the 2015 ozone NAAQS clarifies that nonattainment NSR permit program requirements applicable to the 2015 NAAQS are due three years from the effective date of the nonattainment designation, i.e., August 3, 2021. See 83 FR 62998, 63001. This approach is based on the provision in CAA section 172(b) requiring the submission of plans or plan revisions “no later than 3 years from the date of the nonattainment designation.” Because this requirement will become due after Wisconsin's submission of a complete redesignation request for the Newport State Park area, it is not an applicable requirement for purposes of redesignation.

While Wisconsin has not submitted a nonattainment NSR SIP revision to address the 2015 ozone NAAQS, Wisconsin currently has a fully-approved part D NSR program in place. In addition, EPA approved Wisconsin's PSD program on October 6, 2014 (79 FR 60064) and February 7, 2017 (82 FR 9515). As discussed above, Wisconsin has demonstrated that the Newport State Park area will be able to maintain the 2015 ozone NAAQS without part D NSR in effect; therefore, EPA concludes that the state need not have a fully approved part D NSR program prior to approval of the redesignation request. The state's PSD program will become effective in the area upon redesignation to attainment.

Section 182(a)(3) requires states to submit periodic emission inventories and a revision to the SIP to require the owners or operators of stationary sources to annually submit emission statements documenting actual VOC and NOX emissions. As discussed below in section IV.D.4. of this proposed rule, Wisconsin will continue to update its emissions inventory at least once every three years. For stationary source emission statements, this submission is due August 3, 2020. Because it will become due after Wisconsin's submission of a complete redesignation request for the area, it is not an applicable requirement for purposes of redesignation.

Therefore, EPA finds that the Newport State Park area has satisfied all applicable requirements for purposes of redesignation under section 110 and part D of title I of the CAA.

2. The Newport State Park Area Has a Fully Approved SIP for Purposes of Redesignation Under Section 110(k) of the CAA

At various times, Wisconsin has adopted and submitted, and EPA has approved, provisions addressing the various SIP elements applicable for the ozone NAAQS. As discussed above, EPA has fully approved the Wisconsin SIP for the Newport State Park area under section 110(k) for all requirements applicable for purposes of redesignation under the 2015 ozone NAAQS. EPA may rely on prior SIP approvals in approving a redesignation request (see the Calcagni Memorandum at page 3; Southwestern Pennsylvania Growth Alliance v. Browner, 144 F.3d 984, 989-990 (6th Cir. 1998); Wall v. EPA, 265 F.3d 426), plus any additional measures it may approve in conjunction with a redesignation action (see 68 FR 25426 (May 12, 2003) and citations therein).

C. Are the air quality improvements in the area due to permanent and enforceable emission reductions?

To redesignate an area from nonattainment to attainment, section 107(d)(3)(E)(iii) of the CAA requires EPA to determine that the air quality improvement in the area is due to permanent and enforceable reductions in emissions resulting from the implementation of the SIP and applicable Federal air pollution control regulations and other permanent and enforceable emission reductions. EPA has determined that Wisconsin has demonstrated that the observed ozone air quality improvement in the Newport State Park area is due to permanent and enforceable reductions in VOC and NOX emissions resulting from state measures adopted into the SIP and Federal measures.

In making this demonstration, the state has calculated the change in emissions between 2014 and 2017. The reduction in emissions and the corresponding improvement in air quality over this time period can be attributed to regulatory control measures that Wisconsin and upwind states have implemented in recent years.⁵ In addition, Wisconsin provided an analysis to demonstrate the improvement in air quality was not due to unusually favorable meteorology. Based on the information summarized below, EPA finds that Wisconsin has adequately demonstrated that the improvement in air quality is due to permanent and enforceable emissions reductions.

⁵ EPA designated the Newport State Park area as a Rural Transport Area (RTA), which means EPA determined that the NOX and VOC emissions from sources within the park do not make a significant contribution to ozone concentrations in the park itself, or in other areas. Therefore, the permanent and enforceable precursor emissions reductions required for redesignation must be from areas outside the park within Wisconsin's control. The permanent and enforceable emissions reductions detailed in Wisconsin's redesignation request and discussed in this proposed action represent statewide reductions from Wisconsin and specifically from Wisconsin's Green Bay metropolitan area and Wisconsin's Milwaukee metropolitan area, both of which are upwind of the park, and which, therefore, have the potential to impact ozone levels in the park. Additionally, permanent and enforceable reductions from Chicago, a multi-state metropolitan area upwind of the park, are listed. The Chicago metropolitan area generally consists of portions of Wisconsin, Illinois, and Indiana. For its upwind emissions reduction analysis for the Chicago metropolitan area, Wisconsin included: Cook, Dekalb, DuPage, Grundy, Kane, Kendall, Lake McHenry and Will Counties in Illinois; Jasper, Lake, Porter and Newton Counties in Indiana, and Kenosha County, Wisconsin.

1. Permanent and Enforceable Emission Controls Implemented

a. Regional NOX Controls

CAIR/CSAPR. Under the “good neighbor provision” of CAA section 110(a)(2)(D)(i)(I), states are required to address interstate transport of air pollution. Specifically, the good neighbor provision provides that each state's SIP must contain provisions prohibiting emissions from within that state which will contribute significantly to nonattainment of the NAAQS, or interfere with maintenance of the NAAQS, in any other state.

On May 12, 2005, EPA published CAIR, which required eastern states, including Wisconsin, to prohibit emissions consistent with annual and ozone season NOX budgets and annual sulfur dioxide (SO2) budgets (70 FR 25152). CAIR addressed the good neighbor provision for the 1997 ozone NAAQS and 1997 fine particulate matter (PM2.5) NAAQS and was designed to mitigate the impact of transported NOX emissions, a precursor of both ozone and PM2.5, as well as transported SO2 emissions, another precursor of PM2.5. The United States Court of Appeals for the District of Columbia Circuit (D.C. Circuit) remanded CAIR to EPA for replacement in 2008. North Carolina v. EPA, 531 F.3d 896, modified, 550 F.3d 1176 (2008). While EPA worked on developing a replacement rule, implementation of the CAIR program continued as planned with the NOX annual and ozone season programs beginning in 2009 and the SO2 annual program beginning in 2010.

On August 8, 2011 (76 FR 48208), acting on the D.C. Circuit's remand, EPA published CSAPR to replace CAIR and to address the good neighbor provision for the 1997 ozone NAAQS, the 1997 PM2.5 NAAQS, and the 2006 PM2.5 NAAQS.⁶ Through Federal Implementation Plans (FIPs), CSAPR required electric generating units (EGUs) in eastern states, including Wisconsin, to meet annual and ozone season NOX budgets and annual SO2 budgets implemented through new trading programs. After delays caused by litigation, EPA started implementing the CSAPR trading programs in 2015, simultaneously discontinuing administration of the CAIR trading programs. On October 26, 2016, EPA published the CSAPR Update, which established, starting in 2017, a new ozone season NOX trading program for EGUs in eastern states, including Wisconsin, to address the good neighbor provision for the 2008 ozone NAAQS (81 FR 74504). CSAPR Update is projected to result in a 20% reduction in ozone season NOX emissions from EGUs in the eastern United States, a reduction of 80,000 tons in 2017 compared to 2015 levels. The reduction in NOX emissions from the implementation of CAIR and then CSAPR occurred during the attainment years, and additional emission reductions will occur throughout the maintenance period.

⁶ In a December 27, 2011 rulemaking, EPA included Wisconsin in the ozone season NOX program, addressing the 1997 ozone NAAQS (76 FR 80760).

b. Federal Emission Control Measures

Reductions in VOC and NOX emissions have occurred statewide and in upwind areas as a result of Federal emission control measures, with additional emission reductions expected to occur in the future. Federal emission control measures include the following:

Tier 2 Emission Standards for Vehicles and Gasoline Sulfur Standards. On February 10, 2000 (65 FR 6698), EPA promulgated Tier 2 motor vehicle emission standards and gasoline sulfur control requirements. These emission control requirements result in lower VOC and NOX emissions from new cars and light duty trucks, including sport utility vehicles. With respect to fuels, this rule required refiners and importers of gasoline to meet lower standards for sulfur in gasoline, which were phased in between 2004 and 2006. By 2006, refiners were required to meet a 30-ppm average sulfur level, with a maximum cap of 80 ppm. This reduction in fuel sulfur content ensures the effectiveness of low emission-control technologies. The Tier 2 tailpipe standards established in this rule were phased in for new vehicles between 2004 and 2009. EPA estimates that, when fully implemented, this rule will cut NOX and VOC emissions from light-duty vehicles and light-duty trucks by approximately 76% and 28%, respectively. NOX and VOC reductions from medium-duty passenger vehicles included as part of the Tier 2 vehicle program are estimated to be approximately 37,000 and 9,500 tons per year, respectively, when fully implemented. As projected by these estimates and demonstrated in the onroad emission modeling for the Newport State Park area, much of these emission reductions occurred by the attainment years and additional emission reductions will occur throughout the maintenance period, as older vehicles are replaced with newer, compliant model years.

Tier 3 Emission Standards for Vehicles and Gasoline Sulfur Standards. On April 28, 2014 (79 FR 23414), EPA promulgated Tier 3 motor vehicle emission and fuel standards to reduce both tailpipe and evaporative emissions and to further reduce the sulfur content in fuels. The rule will be phased in between 2017 and 2025. Tier 3 sets new tailpipe standards for the sum of VOC and NOX and for particulate matter (PM). The VOC and NOX tailpipe standards for light-duty vehicles represent approximately an 80% reduction from today's fleet average and a 70% reduction in per-vehicle PM standards. Heavy-duty tailpipe standards represent about a 60% reduction in both fleet average VOC and NOX and per-vehicle PM standards. The evaporative emissions requirements in the rule will result in approximately a 50% reduction from current standards and apply to all light-duty and onroad gasoline-powered heavy-duty vehicles. Finally, the rule lowers the sulfur content of gasoline to an annual average of 10 ppm by January 2017. As projected by these estimates and demonstrated in the onroad emission modeling for the Newport State Park area, some of these emission reductions occurred by the attainment years and additional emission reductions will occur throughout the maintenance period, as older vehicles are replaced with newer, compliant model years.

Heavy-Duty Diesel Engine Rules. In July 2000, EPA issued a rule for onroad heavy-duty diesel engines that includes standards limiting the sulfur content of diesel fuel. Emissions standards for NOX, VOC and PM were phased in between model years 2007 and 2010. In addition, the rule reduced the highway diesel fuel sulfur content to 15 ppm by 2007, leading to additional reductions in combustion NOX and VOC emissions. EPA has estimated future year emission reductions due to implementation of this rule. Nationally, EPA estimated that 2015 NOX and VOC emissions would decrease by 1,260,000 tons and 54,000 tons, respectively. Nationally, EPA estimated that by 2030 NOX and VOC emissions will decrease by 2,570,000 tons and 115,000 tons, respectively. As projected by these estimates and demonstrated in the onroad emission modeling for the Newport State Park area, some of these emission reductions occurred during the attainment years and additional emission reductions will occur throughout the maintenance period, as older vehicles are replaced with newer, compliant model years.

Nonroad Diesel Rule. On June 29, 2004 (69 FR 38958), EPA issued a rule adopting emissions standards for nonroad diesel engines and sulfur reductions in nonroad diesel fuel. This rule applies to diesel engines used primarily in construction, agricultural, and industrial applications. Emission standards are phased in for 2008 through 2015 model years based on engine size. The SO2 limits for nonroad diesel fuels were phased in from 2007 through 2012. EPA estimates that when fully implemented, compliance with this rule will cut NOX emissions from these nonroad diesel engines by approximately 90%. As projected by these estimates and demonstrated in the nonroad emission modeling for the Newport State Park area, some of these emission reductions occurred during the attainment years and additional emission reductions will occur throughout the maintenance period.

Nonroad Spark-Ignition Engines and Recreational Engine Standards. On November 8, 2002 (67 FR 68242), EPA adopted emission standards for large spark-ignition engines such as those used in forklifts and airport ground-service equipment; recreational vehicles such as off-highway motorcycles, all-terrain vehicles, and snowmobiles; and recreational marine diesel engines. These emission standards are phased in from model year 2004 through 2012. When fully implemented, EPA estimates an overall 72% reduction in VOC emissions from these engines and an 80% reduction in NOX emissions. As projected by these estimates and demonstrated in the nonroad emission modeling for the Newport State Park area, some of these emission reductions occurred by the attainment years and additional emission reductions will occur throughout the maintenance period.

Category 3 Marine Diesel Engine Standards. On April 30, 2010 (75 FR 22896) EPA issued emission standards for marine compression-ignition engines at or above 30 liters per cylinder. Tier 2 emission standards have applied beginning in 2011 and are expected to result in a 15 to 25% reduction in NOX emissions from these engines. Final Tier 3 emission standards have applied beginning in 2016 and are expected to result in approximately an 80% reduction in NOX from these engines. As projected by these estimates and demonstrated in the nonroad emission modeling for the Newport State Park area, some of these emission reductions occurred during the attainment years and additional emission reductions will occur throughout the maintenance period.

2. Emission Reductions

Wisconsin is using a 2014 emissions inventory as the nonattainment year. This is appropriate because it was one of the years used to designate the area as nonattainment. Wisconsin is using 2017 as the attainment year, which is appropriate because it is one of the years in the 2017-2019 period used to demonstrate attainment.

Since the nonattainment area is only inclusive of Wisconsin's Newport State Park, the area generally has no point, area, or regularly quantified nonroad emission sources; therefore, Wisconsin prepared an onroad mobile source inventory for this area. Wisconsin used the estimated number of vehicles entering the park on a monthly basis, vehicle miles traveled (VMT) within the park, which has a 1-mile access road, and EPA's Motor Vehicle Emission Simulator model (MOVES2014b) to estimate mobile sector emissions in the state park for the years 2014 and 2017.

As mentioned previously, EPA designated the Newport State Park area as an RTA. Therefore, the permanent and enforceable precursor emissions reductions required for redesignation must be inclusive of areas outside the park within Wisconsin's control. The permanent and enforceable emissions reductions discussed in this proposed action represent statewide reductions from Wisconsin and specifically from Wisconsin's Green Bay metropolitan area ⁷ and Wisconsin's Milwaukee metropolitan area,⁸ both of which are upwind of the park and in line with general wind patterns on exceedance days, and which, therefore, have the potential to impact ozone levels in the park. Additionally, permanent and enforceable reductions from Chicago, a multi-state metropolitan area ⁹ upwind of the park, are listed. In developing the emissions inventory information for these upwind metropolitan areas for the year 2014, Wisconsin used the 2014 National Emissions Inventory (NEI) version 2 and the 2014 National Air Toxics Assessment (NATA) for point, area, onroad, and nonroad sources. For 2017 emissions, Wisconsin interpolated between the 2016 and 2023 emissions of EPA's 2016 version 1 emissions modeling platform.

⁷ For its upwind emissions reduction analysis for the Green Bay metropolitan area, Wisconsin included Brown County, WI.

⁸ For its upwind emissions reduction analysis for the Milwaukee metropolitan area, Wisconsin included: Ozaukee, Racine, Waukesha and Washington Counties in Wisconsin.

⁹ The Chicago metropolitan area generally consists of portions of Wisconsin, Illinois, and Indiana. For its upwind emissions reduction analysis for the Chicago metropolitan area, Wisconsin included: Cook, Dekalb, DuPage, Grundy, Kane, Kendall, Lake McHenry and Will Counties in Illinois; Jasper, Lake, Porter and Newton Counties in Indiana, and Kenosha County, Wisconsin.

The emissions data that Wisconsin used is available in units of tons per year. Wisconsin expects summer day emissions to be slightly higher relative to the rest of the year due to increases in VMT and nonroad activity. Therefore, Wisconsin calculated tons per summer day (tpsd) by dividing annual emissions for mobile source sectors by 330 rather than 365 days to avoid underestimating mobile source sector emissions. For the purpose of estimating regional emissions trends from areas upwind of the Newport State Park nonattainment area, Wisconsin assumed point and area source facilities operate steadily over 365 days each year. Therefore, Wisconsin estimated 2014 and 2017 summer day emissions by dividing the annual emissions for the point and area sectors by 365 days. EPA finds Wisconsin's methods to be reasonable given Wisconsin's assumptions regarding emissions activity from the various source sectors.

Using the inventories described above, Wisconsin documents changes in VOC and NOX emissions from 2014 to 2017 for the Newport State Park area as well as for the upwind metropolitan areas described above, including the Green Bay area, the Milwaukee area, and the Chicago area. Emissions data are shown in Tables 2 through 6. As shown in Table 6, overall NOX and VOC emissions declined between 2014 and 2017.

Table 2—NOX Emissions for Nonattainment Year 2014
[TPSD]
Area | Point | Area | Nonroad | Onroad | Total
Newport State Park | 0.00 | 0.00 | 0.00 | 0.00103 | 0.00103
Green Bay area | 15.57 | 2.63 | 4.05 | 11.20 | 33.46
Milwaukee area | 21.06 | 17.87 | 28.19 | 57.74 | 124.86
Chicago area | 156.24 | 96.68 | 158.24 | 311.75 | 722.92

Table 3—VOC Emissions for Nonattainment Year 2014
[TPSD]
Area | Point | Area | Nonroad | Onroad | Total
Newport State Park | 0.00 | 0.00 | 0.00 | 0.00052 | 0.00052
Green Bay area | 4.27 | 8.71 | 2.91 | 6.31 | 22.21
Milwaukee area | 9.40 | 50.40 | 18.77 | 31.07 | 109.64
Chicago area | 50.20 | 240.36 | 91.62 | 170.29 | 552.47

Table 4—NOX Emissions for Attainment Year 2017
[TPSD]
Area | Point | Area | Nonroad | Onroad | Total
Newport State Park | 0.00 | 0.00 | 0.00 | 0.00063 | 0.00063
Green Bay area | 6.67 | 2.62 | 2.79 | 7.83 | 19.91
Milwaukee area | 17.05 | 17.78 | 17.57 | 34.99 | 87.39
Chicago area | 124.86 | 96.20 | 138.44 | 202.33 | 561.82

Table 5—VOC Emissions for Attainment Year 2017
[TPSD]
Area | Point | Area | Nonroad | Onroad | Total
Newport State Park | 0.00 | 0.00 | 0.00 | 0.00040 | 0.00040
Green Bay area | 4.55 | 8.94 | 1.72 | 4.31 | 19.51
Milwaukee area | 9.23 | 50.69 | 11.83 | 18.55 | 90.30
Chicago area | 48.23 | 241.60 | 70.54 | 113.35 | 473.71

Table 6—Change in NOX and VOC Emissions Between 2014 and 2017
[TPSD]
| NOX: 2014 | NOX: 2017 | NOX: Net change (2014-2017) | VOC: 2014 | VOC: 2017 | VOC: Net change (2014-2017)
Newport State Park:
Point | 0 | 0 | 0 | 0 | 0 | 0
Area | 0 | 0 | 0 | 0 | 0 | 0
Nonroad | 0 | 0 | 0 | 0 | 0 | 0
Onroad | 0.00103 | 0.00063 | −0.0004 | 0.00052 | 0.0004 | −0.00012
Total | 0.00103 | 0.00063 | −0.0004 | 0.00052 | 0.0004 | −0.00012
Green Bay Area:
Point | 15.57 | 6.67 | −8.90 | 4.27 | 4.55 | +0.28
Area | 2.63 | 2.62 | −0.01 | 8.71 | 8.94 | +0.23
Nonroad | 4.05 | 2.79 | −1.26 | 2.91 | 1.72 | −1.19
Onroad | 11.2 | 7.83 | −3.37 | 6.31 | 4.31 | −2.00
Total | 33.46 | 19.91 | −13.55 | 22.21 | 19.51 | −2.70
Milwaukee Area:
Point | 21.06 | 17.05 | −4.01 | 9.40 | 9.23 | −0.17
Area | 17.87 | 17.78 | −0.09 | 50.40 | 50.69 | +0.29
Nonroad | 28.19 | 17.57 | −10.62 | 18.77 | 11.83 | −6.94
Onroad | 57.74 | 34.99 | −22.75 | 31.07 | 18.55 | −12.52
Total | 124.86 | 87.39 | −37.47 | 109.64 | 90.3 | −19.34
Chicago Area:
Point | 156.24 | 124.86 | −31.38 | 50.20 | 48.23 | −1.97
Area | 96.68 | 96.2 | −0.48 | 240.36 | 241.60 | +1.24
Nonroad | 158.24 | 138.44 | −19.80 | 91.62 | 70.54 | −21.08
Onroad | 311.75 | 202.33 | −109.42 | 170.29 | 113.35 | −56.94
Total | 722.92 | 561.82 | −161.10 | 552.47 | 473.71 | −78.76

3. Meteorology

Wisconsin included an analysis to further support its demonstration that the improvement in air quality between the year violations occurred and the year attainment was achieved is due to permanent and enforceable emission reductions and not unusually favorable meteorology. Ozone formation is a complex process with atmospheric chemical reactions involving NOX and VOC precursor species. Moreover, summertime ozone formation tends to be positively correlated with temperature. Wisconsin therefore examined the relationship between the average summer temperature and the fourth-highest 8-hour ozone concentration at the Newport State Park monitor from 1998-2019. Wisconsin also analyzed the annual fourth-highest 8-hour ozone concentration at the Newport State Park monitor compared to the number of days where the maximum temperature was greater than or equal to 80 ° Fahrenheit (F). The linear regressions for each data set demonstrate that the number of days where the maximum temperature was greater than or equal to 80 °F have increased, while annual fourth-highest 8-hour ozone concentrations have decreased. Wisconsin's analysis suggests that the observed long-term decreases in ozone concentrations including the more recent nonattainment to attainment year ozone concentrations are due to the permanent and enforceable reductions in ozone precursor emissions discussed earlier, rather than from meteorological factors such as unusually cool summer temperatures. Therefore, EPA finds that Wisconsin has shown that the air quality improvements in the Newport State Park area are due to permanent and enforceable emissions reductions.

D. Does Wisconsin have a fully approvable ozone maintenance plan for the Newport State Park area?

As one of the criteria for redesignation to attainment section 107(d)(3)(E)(iv) of the CAA requires EPA to determine that the area has a fully approved maintenance plan pursuant to section 175A of the CAA. Section 175A of the CAA sets forth the elements of a maintenance plan for areas seeking redesignation from nonattainment to attainment. Under section 175A, the maintenance plan must demonstrate continued attainment of the NAAQS for at least 10 years after the Administrator approves a redesignation to attainment. Eight years after the redesignation, the state must submit a revised maintenance plan which demonstrates that attainment of the NAAQS will continue for an additional 10 years beyond the initial 10-year maintenance period. To address the possibility of future NAAQS violations, the maintenance plan must contain contingency measures, as EPA deems necessary, to assure prompt correction of the future NAAQS violation.

The Calcagni Memorandum provides further guidance on the content of a maintenance plan, explaining that a maintenance plan should address five elements: (1) An attainment emissions inventory; (2) a maintenance demonstration; (3) a commitment for continued air quality monitoring; (4) a process for verification of continued attainment; and (5) a contingency plan. In conjunction with its request to redesignate the Newport State Park area to attainment for the 2015 ozone NAAQS, Wisconsin submitted a SIP revision to provide for maintenance of the 2015 ozone NAAQS through 2030, more than 10 years after the expected effective date of the redesignation to attainment. As discussed below, EPA proposes to find that Wisconsin's ozone maintenance plan includes the necessary components and to approve the maintenance plan as a revision of the Wisconsin SIP.

1. Attainment Inventory

EPA is proposing to determine that the Newport State Park area has attained the 2015 ozone NAAQS based on monitoring data for the period of 2017-2019. Wisconsin selected 2017 as the attainment emissions inventory year to establish attainment emission levels for VOC and NOX. Attainment emissions inventories identify the levels of emissions in the nonattainment area that are sufficient to attain the NAAQS. As mentioned previously, EPA designated Newport State Park as an RTA. As such, Wisconsin included an attainment emissions inventory for the nonattainment area and additionally provided information about attainment year emissions for upwind metropolitan areas that have the potential to influence ozone levels in the RTA. The derivation of the attainment year emissions for these areas is discussed above in section IV.C.2. of this proposed rule. The attainment level emissions, by source category, are summarized in Tables 4 and 5, above.

2. Has the state documented maintenance of the ozone standard in the area?

Wisconsin has demonstrated maintenance of the 2015 ozone NAAQS through 2030 by ensuring that current and future emissions of VOC and NOX for the Newport State Park RTA remain at or below attainment year emission levels and, additionally, that upwind areas within Wisconsin's control having the potential to influence ozone levels in the RTA, including the Green Bay metropolitan area, the Milwaukee metropolitan area, and the Chicago metropolitan area, a portion of which is within Wisconsin, remain at or below attainment year emission levels. A maintenance demonstration need not be based on modeling. See Wall v. EPA, 265 F.3d 426 (6th Cir. 2001), Sierra Club v. EPA, 375 F. 3d 537 (7th Cir. 2004). See also 66 FR 53094, 53099-53100 (October 19, 2001), 68 FR 25413, 25430-25432 (May 12, 2003).

Wisconsin is using emissions inventories for the years 2023 and 2030 to demonstrate maintenance. 2030 is more than 10 years after the expected effective date of the redesignation to attainment and 2023 was selected to demonstrate that emissions are not expected to spike in the interim between the attainment year and the final maintenance year. The emissions inventories were developed as described below.

Wisconsin used EPA's 2016 Emissions Modeling Platform, Version 1, which includes base year 2016 emissions and emissions projections for the years 2023 and 2028. Wisconsin estimated 2030 emissions by extrapolating EPA's 2023 and 2028 emissions projections. Wisconsin used the same methodology to convert annual tons to tpsd for the 2023 and 2030 emissions projections as it used for the 2014 and 2017 inventory estimates. Thus, Wisconsin derived 2023 and 2030 summer day emissions by dividing the annual emissions for the point and area sectors by 365 days and the mobile sectors by 330. Interim and future year emissions estimates are shown in Tables 7 through 11 below.

Table 7—NOX Emissions for Interim Maintenance Year 2023
[TPSD]
Area | Point | Area | Nonroad | Onroad | Total
Newport State Park | 0 | 0 | 0 | 0.00032 | 0.00032
Green Bay area | 5.56 | 2.58 | 2.15 | 3.82 | 14.11
Milwaukee area | 18.07 | 17.40 | 14.32 | 17.49 | 67.28
Chicago area | 101.44 | 93.29 | 118.29 | 108.40 | 421.41

Table 8—VOC Emissions for Interim Maintenance Year 2023
[TPSD]
Area | Point | Area | Nonroad | Onroad | Total
Newport State Park | 0 | 0 | 0 | 0.00027 | 0.00027
Green Bay area | 4.53 | 9.15 | 1.49 | 2.72 | 17.91
Milwaukee area | 9.78 | 51.06 | 10.88 | 12.16 | 83.87
Chicago area | 46.75 | 245.30 | 65.28 | 72.56 | 429.90

Table 9—NOX Emissions for Maintenance Year 2030
[TPSD]
Area | Point | Area | Nonroad | Onroad | Total
Newport State Park | 0 | 0 | 0 | 0.00016 | 0.00016
Green Bay area | 5.61 | 2.56 | 1.48 | 1.86 | 11.51
Milwaukee area | 17.90 | 17.11 | 13.31 | 10.17 | 58.48
Chicago area | 101.84 | 89.52 | 113.96 | 69.03 | 374.35

Table 10—VOC Emissions for Maintenance Year 2030
[TPSD]
Area | Point | Area | Nonroad | Onroad | Total
Newport State Park | 0 | 0 | 0 | 0.00019 | 0.00019
Green Bay area | 4.54 | 9.38 | 1.41 | 1.97 | 17.30
Milwaukee area | 9.76 | 51.43 | 10.82 | 8.68 | 80.69
Chicago area | 46.45 | 249.4 | 66.68 | 49.96 | 412.50

Table 11—Change in NOX and VOC Emissions Between 2017 and 2030
[TPSD]
| NOX: 2017 | NOX: 2023 | NOX: 2030 | NOX: Net change (2017-2030) | VOC: 2017 | VOC: 2023 | VOC: 2030 | VOC: Net change (2017-2030)
Newport State Park, Door County, Wisconsin:
Point | 0 | 0 | 0 | 0 | 0 | 0 | 0 | 0
Area | 0 | 0 | 0 | 0 | 0 | 0 | 0 | 0
Nonroad | 0 | 0 | 0 | 0 | 0 | 0 | 0 | 0
Onroad | 6.3E-4 | 3.2E-4 | 1.6E-4 | −4.7E-4 | 4.0E-4 | 2.7 E-4 | 1.9E-4 | −2.1E-4
Total | 6.3E-4 | 3.2E-4 | 1.6E-4 | −4.7E-4 | 4.0E-4 | 2.7 E-4 | 1.9E-4 | −2.1E-4
Green Bay Wisconsin Metropolitan Area:
Point | 6.67 | 5.56 | 5.61 | −1.06 | 4.55 | 4.53 | 4.54 | −0.01
Area | 2.62 | 2.58 | 2.56 | −0.06 | 8.94 | 9.15 | 9.38 | +0.44
Nonroad | 2.79 | 2.15 | 1.48 | −1.31 | 1.72 | 1.49 | 1.41 | −0.31
Onroad | 7.83 | 3.82 | 1.86 | −5.97 | 4.31 | 2.72 | 1.97 | −2.34
Total | 19.91 | 14.11 | 11.51 | −8.40 | 19.51 | 17.91 | 17.30 | −2.21
Milwaukee Wisconsin Metropolitan Area:
Point | 17.05 | 18.07 | 17.90 | +0.85 | 9.23 | 9.78 | 9.76 | +0.53
Area | 17.78 | 17.40 | 17.11 | −0.67 | 50.69 | 51.06 | 51.43 | +0.74
Nonroad | 17.57 | 14.32 | 13.31 | −4.26 | 11.83 | 10.88 | 10.82 | −1.01
Onroad | 34.99 | 17.49 | 10.17 | −24.82 | 18.55 | 12.16 | 8.68 | −9.87
Total | 87.39 | 67.28 | 58.48 | −28.91 | 90.30 | 83.87 | 80.69 | −9.61
Chicago Metropolitan Area:
Point | 124.86 | 101.44 | 101.84 | −23.02 | 48.23 | 46.75 | 46.45 | −1.78
Area | 96.20 | 93.29 | 89.52 | −6.68 | 241.60 | 245.30 | 249.40 | +7.78
Nonroad | 138.44 | 118.29 | 113.96 | −24.48 | 70.54 | 65.28 | 66.68 | −3.86
Onroad | 202.33 | 108.40 | 69.03 | −133.30 | 113.35 | 72.56 | 49.96 | −63.39
Total | 561.82 | 421.41 | 374.35 | −187.50 | 473.71 | 429.90 | 412.50 | −61.25

In summary, Wisconsin's maintenance demonstration for the RTA shows maintenance of the 2015 ozone NAAQS by providing emissions information to support the demonstration that future emissions of NOX and VOC will remain at or below 2017 emission levels when taking into account both future source growth and implementation of future controls. Table 11 shows NOX and VOC emissions are projected to decrease between 2017 and 2030.

3. Continued Air Quality Monitoring

Wisconsin has committed to continue to operate the ozone monitor listed in Table 1 above. Wisconsin has committed to consult with EPA prior to making changes to the existing monitoring network should changes become necessary in the future. Wisconsin remains obligated to meet monitoring requirements and to continue to quality assure monitoring data in accordance with 40 CFR part 58, and to enter all data into the AQS in accordance with Federal guidelines.

4. Verification of Continued Attainment

Wisconsin has confirmed that it has the legal authority to enforce and implement the requirements of the maintenance plan for the Newport State Park area. This includes the authority to adopt, implement, and enforce any subsequent statewide and/or area-specific emission control measures determined to be necessary to correct future ozone attainment problems.

Verification of continued attainment is accomplished through operation of the ambient ozone monitoring network and the periodic update of relevant emissions inventories. Wisconsin will continue to operate the current ozone monitor located in the Newport State Park area. There are no plans to discontinue operation, relocate, or otherwise change the existing ozone monitoring network other than through revisions in the network approved by the EPA.

To track future levels of emissions, Wisconsin will continue to develop and submit to EPA updated emission inventories for the RTA and upwind areas in Wisconsin at least once every three years, consistent with the requirements of 40 CFR part 51, subpart A, and in 40 CFR 51.122. The Consolidated Emissions Reporting Rule (CERR) was promulgated by EPA on June 10, 2002 (67 FR 39602). The CERR was replaced by the Annual Emissions Reporting Requirements (AERR) on December 17, 2008 (73 FR 76539). The most recent triennial inventory for Wisconsin was compiled for 2014, and 2017 is in progress. Point source facilities covered by Wisconsin's emission statement rule, Chapter NR 438 of the Wisconsin Administrative Code, will continue to submit VOC and NOX emissions on an annual basis.

5. What is the contingency plan for the area?

Section 175A of the CAA requires the state to adopt a maintenance plan, as a SIP revision, that includes such contingency measures as EPA deems necessary to assure that the state will promptly correct a violation of the NAAQS that occurs after redesignation of the area to attainment of the NAAQS. The maintenance plan must identify: The contingency measures to be considered and, if needed for maintenance, adopted and implemented; a schedule and procedure for adoption and implementation; and a time limit for action by the state. The state should also identify specific indicators to be used to determine when the contingency measures need to be considered, adopted, and implemented. The maintenance plan must include a commitment that the state will implement all measures with respect to the control of the pollutant that were contained in the SIP before redesignation of the area to attainment in accordance with section 175A(d) of the CAA.

As required by section 175A of the CAA, Wisconsin has adopted a maintenance plan for the Newport State Park area to address possible future ozone air quality problems. The maintenance plan adopted by Wisconsin has two levels of response, a warning level response and an action level response.

In Wisconsin's plan, a warning level response will be triggered when an annual fourth high monitored value of 0.070 ppm or higher is monitored within the maintenance area. A warning level response will consist of Wisconsin conducting a study to determine whether the ozone value indicates a trend toward higher ozone values and whether emissions appear to be increasing. The study will evaluate whether the trend, if any, is likely to continue and, if so, the control measures necessary to reverse the trend. The study will be completed no later than May 1st of the year after the ozone season in which the exceedance is detected.

In Wisconsin's plan, a violation of the 2015 ozone NAAQS within the maintenance area triggers an action level response. When an action level response is triggered, Wisconsin will determine what additional control measures are needed to ensure future attainment of the 2015 ozone NAAQS. Control measures selected will be adopted and implemented within 18 months from the close of the ozone season that prompted the action level. Wisconsin may also consider if significant new regulations not currently included as part of the maintenance provisions will be implemented in a timely manner and would thus constitute an adequate contingency measure response.

Wisconsin included the following list of potential contingency measures in its maintenance plan:

1. Anti-idling control program for mobile sources, targeting diesel vehicles;

2. Diesel exhaust retrofits;

3. Traffic flow improvements;

4. Park and ride facilities;

5. Rideshare/carpool program; and

6. Expansion of the vehicle emissions testing program.

To qualify as a contingency measure, emissions reductions from that measure must not be factored into the emissions projections used in the maintenance plan.

EPA has concluded that Wisconsin's maintenance plan adequately addresses the five basic components of a maintenance plan: Attainment inventory, maintenance demonstration, monitoring network, verification of continued attainment, and a contingency plan. In addition, as required by section 175A(b) of the CAA, Wisconsin has committed to submit to EPA an updated ozone maintenance plan eight years after redesignation of the area to cover an additional ten years beyond the initial 10-year maintenance period. Thus, EPA finds that the maintenance plan SIP revision submitted by Wisconsin for the Newport State Park RTA meets the requirements of section 175A of the CAA and EPA proposes to approve it as a revision to the Wisconsin SIP.

V. Has the state adopted approvable motor vehicle emission budgets?

A. Motor Vehicle Emission Budgets

Under section 176(c) of the CAA, new transportation plans, programs, or projects that receive Federal funding or support, such as the construction of new highways, must “conform” to (i.e., be consistent with) the SIP. Conformity to the SIP means that transportation activities will not cause new air quality violations, worsen existing air quality problems, or delay timely attainment of the NAAQS or interim air quality milestones. Regulations at 40 CFR part 93 set forth EPA policy, criteria, and procedures for demonstrating and assuring conformity of transportation activities to a SIP. Transportation conformity is a requirement for nonattainment and maintenance areas. Maintenance areas are areas that were previously nonattainment for a particular NAAQS, but that have been redesignated to attainment with an approved maintenance plan for the NAAQS.

Under the CAA, states are required to submit, at various times, control strategy SIPs for nonattainment areas and maintenance plans for areas seeking redesignations to attainment of the ozone standard and maintenance areas. See the SIP requirements for the 2015 ozone NAAQS in EPA's December 6, 2018 implementation rule (83 FR 62998). These control strategy SIPs (including reasonable further progress plans and attainment plans) and maintenance plans must include MVEBs for criteria pollutants, including ozone, and their precursor pollutants (VOC and NOX for ozone) to address pollution from onroad transportation sources. The MVEBs are the portion of the total allowable emissions that are allocated to highway and transit vehicle use that, together with emissions from other sources in the area, will provide for attainment or maintenance. See 40 CFR 93.101.

Under 40 CFR part 93, a MVEB for an area seeking a redesignation to attainment must be established, at minimum, for the last year of the maintenance plan. A state may adopt MVEBs for other years as well. The MVEB serves as a ceiling on emissions from an area's planned transportation system. The MVEB concept is further explained in the preamble to the November 24, 1993, Transportation Conformity Rule (58 FR 62188). The preamble also describes how to establish the MVEB in the SIP and how to revise the MVEB, if needed, subsequent to initially establishing a MVEB in the SIP.

B. What is the status of EPA's adequacy determination for the proposed VOC and NOX MVEBs for the Newport State Park area?

When reviewing submitted control strategy SIPs or maintenance plans containing MVEBs, EPA must affirmatively find that the MVEBs contained therein are adequate for use in determining transportation conformity. Once EPA affirmatively finds that the submitted MVEBs are adequate for transportation purposes, the MVEBs must be used by state and Federal agencies in determining whether proposed transportation projects conform to the SIP as required by section 176(c) of the CAA.

EPA's substantive criteria for determining adequacy of a MVEB are set out in 40 CFR 93.118(e)(4). The process for determining adequacy consists of three basic steps: Public notification of a SIP submission; provision for a public comment period; and EPA's adequacy determination. This process for determining the adequacy of submitted MVEBs for transportation conformity purposes was initially outlined in EPA's May 14, 1999 guidance, “Conformity Guidance on Implementation of March 2, 1999, Conformity Court Decision.” EPA adopted regulations to codify the adequacy process in the Transportation Conformity Rule Amendments for the “New 8-Hour Ozone and PM2.5 National Ambient Air Quality Standards and Miscellaneous Revisions for Existing Areas; Transportation Conformity Rule Amendments—Response to Court Decision and Additional Rule Change,” on July 1, 2004 (69 FR 40004). Additional information on the adequacy process for transportation conformity purposes is available in the proposed rule titled, “Transportation Conformity Rule Amendments: Response to Court Decision and Additional Rule Changes,” 68 FR 38974, 38984 (June 30, 2003).

As discussed earlier, Wisconsin's maintenance plan includes NOX and VOC MVEBs for the Newport State Park area for 2030 and 2023, the last year of the maintenance period and an interim year, respectively. EPA has reviewed Wisconsin's VOC and NOX MVEBs for the Newport State Park RTA and, in this action, is proposing to find them adequate for approval into the Wisconsin SIP. Wisconsin's January 27, 2020 maintenance plan SIP submission, including the VOC and NOX MVEBs for the Newport State Park area, is open for public comment via this proposed rulemaking. The submitted maintenance plan, which includes the MVEBs, was endorsed by the Governor's designee and was subject to a state public hearing. The MVEBs were developed as part of an interagency consultation process which includes Federal, state, and local agencies. The MVEBs were clearly identified and precisely quantified. These MVEBs, when considered together with all other emissions sources, are consistent with maintenance of the 2015 ozone NAAQS.

Table 12—MVEBs for Newport State Park Area
[TPSD]
| Attainment year 2017 onroad emissions | 2023 estimated onroad emissions | 2023 mobile safety margin allocation (percent) | 2023 MVEBs | 2030 estimated onroad emissions | 2030 mobile safety margin allocation (percent) | 2030 MVEBs
VOC | 0.00040 | 0.00024 | 15 | 0.00027 | 0.00017 | 15 | 0.00019
NOX | 0.00063 | 0.00028 | 15 | 0.00032 | 0.00014 | 15 | 0.00016

As shown in Table 12, the 2023 and 2030 MVEBs exceed the estimated 2023 and 2030 onroad sector emissions. To accommodate future variations in travel demand models and VMT forecast, Wisconsin allocated a portion of the safety margin (described further below) to the mobile sector. Wisconsin has demonstrated that with mobile source emissions at or below 0.00027 TPSD and 0.00019 TPSD of VOC and 0.00032 TPSD and 0.00016 TPSD of NOX in 2023 and 2030, respectively, including partial allocation of the safety margin, emissions will remain under attainment year emission levels. EPA finds adequate and is proposing to approve the MVEBs for use to determine transportation conformity in the area, because EPA has determined that the area can maintain attainment of the 2015 ozone NAAQS for the relevant maintenance period with mobile source emissions at the levels of the MVEBs in conjunction with the levels of the projected emissions inventories for the upwind areas discussed above.

C. What is a safety margin?

A “safety margin” is the difference between the attainment level of emissions (from all sources) and the projected level of emissions (from all sources) in the maintenance plan. As noted in Table 11, the emissions in the Newport State Park area are projected to have safety margins of 0.00047 TPSD for NOX and 0.00021 TPSD for VOC in 2030 (the difference between the attainment year, 2017, emissions and the projected 2030 emissions for all sources in the area). Similarly, there is a safety margin of 0.00031 TPSD for NOX and 0.00013 TPSD for VOC in 2023. Even if emissions exceeded projected levels by the full amount of the safety margin, the area would still demonstrate maintenance since emission levels would equal those in the attainment year.

As shown in Table 12 above, Wisconsin is allocating a portion of that safety margin to the mobile source sector. Specifically, in 2023, Wisconsin is allocating 0.00003 TPSD and 0.00004 TPSD of the VOC and NOX safety margins, respectively. In 2030, Wisconsin is allocating 0.00002 TPSD and 0.00002 TPSD of the VOC and NOX safety margins, respectively. Wisconsin is not requesting allocation to the MVEBs of the entire available safety margins reflected in the demonstration of maintenance. In fact, the amount allocated to the MVEBs represents only a small portion of the 2023 and 2030 safety margins. Therefore, even though the state is requesting MVEBs that exceed the projected onroad mobile source emissions for 2023 and 2030 contained in the demonstration of maintenance, the permissible level of onroad mobile source emissions that can be considered for transportation conformity purposes is well within the safety margins of the ozone maintenance demonstration. Once allocated to mobile sources, these safety margins will not be available for use by other sources. Further, the Newport State Park area is an RTA. Therefore, in addition to the MVEBs, the estimated upwind emissions reductions throughout the maintenance period, which are described above, are also important for maintaining the 2015 ozone NAAQS in this area throughout the 10-year maintenance period.

VI. Proposed Actions

EPA is proposing to change the legal designation of the Newport State Park area from nonattainment to attainment for the 2015 ozone NAAQS. EPA is also proposing to approve, as a revision to the Wisconsin SIP, the state's maintenance plan for the area. The maintenance plan is designed to keep the Newport State Park area in attainment of the 2015 ozone NAAQS through 2030. Finally, EPA finds adequate and therefore proposes to approve the newly-established 2023 and 2030 MVEBs for the Newport State Park area.

VII. Statutory and Executive Order Reviews

Under the CAA, redesignation of an area to attainment and the accompanying approval of a maintenance plan under section 107(d)(3)(E) are actions that affect the status of a geographical area and do not impose any additional regulatory requirements on sources beyond those imposed by state law. A redesignation to attainment does not in and of itself create any new requirements, but rather results in the applicability of requirements contained in the CAA for areas that have been redesignated to attainment. Moreover, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, this rule does not have tribal implications as specified by Executive Order 13175 (65 FR 67249, November 9, 2000), because redesignation is an action that affects the status of a geographical area and does not impose any new regulatory requirements on tribes, impact any existing sources of air pollution on tribal lands, nor impair the maintenance of ozone national ambient air quality standards in tribal lands.

List of Subjects

40 CFR Part 52

Environmental protection, Air pollution control, Incorporation by reference, Intergovernmental relations, Oxides of nitrogen, Ozone, Volatile organic compounds.

40 CFR Part 81

Environmental protection, Air pollution control, National parks, Wilderness areas.

Dated: February 28, 2020.
Cheryl Newton,
Deputy Regional Administrator, Region 5.

[FR Doc. 2020-05007 Filed 3-12-20; 8:45 am]

BILLING CODE 6560-50-P